DEPARTMENT OF TRANSPORTATION

Pipeline and Hazardous Materials Safety Administration

[Docket No. PHMSA-2015-0173]

Pipeline Safety: Meeting of the Gas Pipeline Safety Advisory Committee and the Liquid Pipeline Safety Advisory Committee

AGENCY: Pipeline and Hazardous Materials Safety Administration (PHMSA), DOT.

ACTION: Notice of advisory committee meeting.

SUMMARY: This notice announces a public meeting of the Gas Pipeline Advisory Committee (GPAC), also known as the Technical Pipeline Safety Standards Committee, and the Liquid Pipeline Advisory Committee (LPAC), also known as the Technical Hazardous Liquid Pipeline Safety Standards Committee.

DATES: The committees will meet in joint sessions on Tuesday, August 25, 2015, from 1:00 p.m. to 5:00 p.m. and on Wednesday, August 26, 2015, from 9:00 a.m. to 5:00 p.m., EST.

The meetings will not be web cast; however, presentations will be available on the meeting Web site and posted on the E-Gov Web site: http://www.regulations.gov under docket number PHMSA-2015-0173 within 30 days following the meeting.

ADDRESSES: The meeting will be held at the Crystal City Marriott at Reagan National Airport, 1999 Jefferson Davis Highway, Arlington, VA 22202. A limited block of rooms is available at the government rate of $162 per night. The deadline to book a room in the block is August 6, 2015, or when the block is filled, whichever comes first. However, the advisory committee members have priority for the room block. More information and a link to reserve a room is available on the meeting Web site. You can also call the hotel directly at 1-703-413-5500 and ask for the “U.S. Department of Transportation Meeting” block.

The agenda and any additional information will be published on the following pipeline advisory committee meeting and registration page at https://primis.phmsa.dot.gov/meetings/MtgHome.mtg?mtg=105.

Comments: Comments on the meeting may be submitted to the docket in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-001.

Hand Delivery: Room W12-140 on the ground level of the DOT West Building, 1200 New Jersey Avenue SE., Washington, DC, between 9:00 a.m. and 5:00 p.m., Monday through Friday, except on Federal holidays.

Instructions: Identify the docket number PHMSA-2015-0173 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477), or view the Privacy Notice at http://www.regulations.gov before submitting any such comments.

Docket: For access to the docket or to read background documents or comments, go to http://www.regulations.gov at any time or to Room W12-140 on the ground level of the DOT West Building, 1200 New Jersey Avenue SE., Washington, DC, between 9:00 a.m. and 5:00 p.m., Monday through Friday, except Federal holidays.

If you wish to receive confirmation of receipt of your written comments, please include a self-addressed, stamped postcard with the following statement: “Comments on PHMSA-2015-0173.” The Docket Clerk will date stamp the postcard prior to returning it to you via the U.S. mail. Please note that due to delays in the delivery of U.S. mail to Federal offices in Washington, DC, we recommend that persons consider an alternative method (Internet, fax, or professional delivery service) of submitting comments to the docket and ensuring their timely receipt at DOT.

Privacy Act Statement

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Information on Services for Individuals With Disabilities

For information on facilities or services for individuals with disabilities, or to seek special assistance at the meeting, please contact Cheryl Whetsel at 202-366-4431 by August 18, 2015.

FOR FURTHER INFORMATION CONTACT: For information about the meeting, contact Cheryl Whetsel by phone at 202-366-4431 or by email at cheryl.whetsel@dot.gov.

SUPPLEMENTARY INFORMATION:

I. Meeting Details

The Pipeline and Hazardous Materials Safety Administration will hold meetings of the GPAC and LPAC. Topics to be discussed will include the regulatory agenda, agency State and stakeholder priorities and safety management systems. The committee members will not be considering any proposed rules at this meeting.

Members of the public may attend and make a statement during the advisory committee meeting. If you intend to make a statement, please notify PHMSA in advance by forwarding an email to cheryl.whetsel@dot.gov by August 18, 2015.

II. Committee Background

The GPAC and LPAC are statutorily mandated advisory committees that advise PHMSA on proposed safety standards, risk assessments, and safety policies for natural gas pipelines and for hazardous liquid pipelines. Both committees were established under the Federal Advisory Committee Act (Pub. L. 92-463, 5 U.S.C. App. 1) and the pipeline safety law (49 U.S.C. Chap. 601). Each committee consists of 15 members—with membership evenly divided among the Federal and state government, the regulated industry, and the public. The committees advise PHMSA on the technical feasibility, practicability, and cost-effectiveness of each proposed pipeline safety standard.

III. Agenda

The Agenda will be published on the PHMSA Web site.

Issued in Washington, DC, on July 31, 2015, under authority delegated in 49 CFR 1.97.
Alan K. Mayberry,
Deputy Associate Administrator for Policy and Programs.

[FR Doc. 2015-19296 Filed 8-5-15; 8:45 am]

BILLING CODE 4910-60-P